DEPARTMENT OF HEALTH AND HUMAN SERVICES

Administration for Children and Families

Proposed Information Collection Activity; Comment Request

Proposed Projects

Title: Information collection from applicants who will respond to Request for Applications for funding of seven OCS competitive grants.

OMB No.: 0970-0062.

Description: The Office of Community Services (OCS) is requesting approval to continue the use of its program announcements to collect information which will enable the agency to determine which projects to fund and the amount of the grant awards. The programs covered include: Community Food and Nutrition; Community Economic Development Discretionary Grants Program; Low Income Home Energy Assistance Program Residential Energy Assistance Challenge Option Program (REACH); LIHEAP Clearinghouse T&TA; Job Opportunities for Low-Income Individuals; CSBG Training and Technical Assistance and Capacity Building; and Family Violence Prevention and Services Program.

Information collected from the requirements contained in these program announcements will be the sole source of information available to OCS in reviewing applications leading to awards of discretionary grants to eligible applicants.

The application forms that will be used contain information for competitive review in accordance with the program announcements' guidelines. The data provided is necessary to compute the amount of the grant in relation to proposed project activities by the ACF Grant Officers.

OMB recommended that ACF submit one information collection package covering all OCS discretionary program announcements, since the same application form is used in each announcement. This information collection was last approved in 1998; it is due to expire October 31, 2001. Since the last approval, we have added the Residential Energy Assistance Challenge Option Program (REACH) as an additional Low Income Home Energy Assistance Program.

Respondents: State and local governments, Indian tribes, not-for-profit organizations.

Annual Burden Estimates
Instrument | Number of respondents | Number of responses per respondent | Average burden hours per response | Total burden hours
Comm. Economic Development, An | 250 | 1 | 28 | 7,000
Comm. Food and Nutrition, An | 250 | 1 | 10 | 2,500
LIHEAP Clearing-house RFP (T&TA) | 5 | 1 | 10 | 50
LIHEAP REACH, Ann | 45 | 1 | 10 | 450
JOLI, Ann | 170 | 1 | 30 | 5,100
T&TA (CSBG), Ann | 70 | 1 | 10 | 700
Family Violence | 150 | 1 | 30 | 4,500
Estimated Total Annual Burden Hours |  |  |  | 20,300

In compliance with the requirements of section 3506 (c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, S.W., Washington, D.C. 20447, Attn: ACF Reports Clearance Officer. All requests should be identified by the title of the information collection.

The Department specifically requests comments on: (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: March 29, 2001.
Bob Sargis,
Reports Clearance Officer.

[FR Doc. 01-8236 Filed 4-3-01; 8:45 am]

BILLING CODE 4184-01-M